DEPARTMENT OF ENERGY

Federal Energy Regulatory Commission

[Project No. 2621-009]

Lockhart Power Company; Notice Soliciting Scoping Comments

December 18, 2009.

Take notice that the following hydroelectric application has been filed with the Commission and is available for public inspection.

a. Type of Application: New Major License.

b. Project No.: P-2621-009.

c. Date filed: November 16, 2009.

d. Applicant: Lockhart Power Company.

e. Name of Project: Pacolet Hydroelectric Project.

f. Location: The proposed project is located on the Pacolet River, near the Town of Pacolet, Spartanburg County, South Carolina. The project does not occupy federal lands.

g. Filed Pursuant to: Federal Power Act 16 U.S.C. 791(a)-825(r).

h. Applicant Contact: Bryan D. Stone, P.O. Box 10, 420 River Street, Lockhart, SC 29364; Telephone (864) 545-2211.

i. FERC Contact: Lee Emery, Telephone (202) 502-8379, or by e-mail at lee.emery@ferc.gov.

j. Deadline for filing scoping comments: January 19, 2010.

All documents may be filed electronically via the Internet. See 18 CFR 385.2001(a)(1)(iii) and the instructions on the Commission's Web site (http://www.ferc.gov/docs-filing/ferconline.asp), under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426. All filings with the Commission must include project name and number (i.e., Pacolet Project No. 2621-009) and bear the heading “Comments on Scoping Document 1.”

k. This application is not ready for environmental analysis at this time.

l. The proposed Pacolet Project would consist of two developments; one that is an existing, licensed development (the Lower Pacolet development) and a new development (Upper Pacolet development). The project would have an annual generation of 8,092,000 kilowatt-hours. The proposed project would consist of the facilities described below.

The Upper Pacolet development would consist of: (1) An existing 315-foot-long by 18-foot-high concrete and rubble masonry dam, with the addition of 3-foot-high flashboards; (2) an existing 30-acre reservoir, with a useable storage capacity of 90 acre-feet at elevation 519.0 feet North American Vertical Datum 1988 (NAVD 88); (3) new vertical slide intake gates with rack and pinion operators, sluice gates, and trashracks having a 1.375-inch clear bar spacing with a single trash rake cleaning mechanism; (4) a new 24-foot-wide by 40-foot-long concrete powerhouse that would contain a vertical Kaplan turbine with an estimated generating capacity of 1.1 megawatts (MW); (5) a proposed 200-foot-long, 34.5 kilovolt (kV) transmission line; (6) a proposed switchyard; and (7) appurtenant facilities.

The Lower Pacolet development (all existing facilities) would consist of: (1) A 347-foot-long by 24-foot-high concrete and rubble masonry dam, with 4-foot-high flashboards; (2) three sand gates; (3) an 11-acre reservoir, with a useable storage capacity of 44-acre feet at an elevation of 492.0 feet NAVD 88; (4) an intake structure equipped with trashracks, having a 1.375-inch clear bar spacing and a trash rake; (5) a 100-foot-long by 10-foot-diameter penstock; (6) a 67-foot-long by 32-foot-wide concrete powerhouse, integral with the dam, containing two vertical turbines, each generating 400 kilowatts (kW); (7) a tailrace with a 340-foot-long curved training wall; (8) a 250-foot-long, 34.5-kV transmission line; and (9) appurtenant facilities.

m. A copy of the application is available for review at the Commission in the Public Reference Room or may be viewed on the Commission's Web site at http://www.ferc.gov, using the “eLibrary” link. Enter the docket number, excluding the last three digits, in the docket number field to access the document. For assistance, contact FERC Online Support. A copy is available for inspection and reproduction at the address in Item H above.

n. You may register online at http://www.ferc.gov/docs-filing/esubscription.asp to be notified via e-mail of new filings and issuances related to this or other pending projects. For assistance, contact FERC Online Support.

o. Scoping Process

The Commission staff intends to prepare a single Environmental Assessment (EA) for the Pacolet Hydroelectric Project, in accordance with the National Environmental Policy Act. The EA will consider both site-specific and cumulative environmental impacts and reasonable alternatives to the proposed action.

Commission staff does not propose to conduct any on-site scoping meetings at this time. Instead, we are soliciting comments, recommendations, and information, on the Scoping Document (SD) issued on December 18, 2009.

Copies of the SD outlining the subject areas to be addressed in the EA were distributed to the parties on the Commission's mailing list and the applicant's distribution list. Copies of the SD may be viewed on the Web at http://www.ferc.gov, using the “eLibrary” link. Enter the docket number, excluding the last three digits, in the docket number field to access the document. For assistance, call 1-866-208-3676 or, for TTY, (202) 502-8659.

Kimberly D. Bose,
Secretary.

[FR Doc. E9-30810 Filed 12-28-09; 8:45 am]

BILLING CODE 6717-01-P